DEPARTMENT OF COMMERCE

International Trade Administration

[A-517-807]

Hexamethylenetetramine From the Kingdom of Saudi Arabia: Final Affirmative Determination of Sales at Less Than Fair Value and Final Negative Determination of Critical Circumstances

AGENCY: Enforcement and Compliance, International Trade Administration, U.S. Department of Commerce.

SUMMARY: The U.S. Department of Commerce (Commerce) determines that hexamethylenetetramine (hexamine) from the Kingdom of Saudi Arabia (Saudi Arabia) is being, or is likely to be, sold in the United States at less than fair value (LTFV). The period of investigation (POI) is July 1, 2023, through June 30, 2024.

DATES: Applicable September 23, 2025.

FOR FURTHER INFORMATION CONTACT: Andrew Hart, AD/CVD Operations, Office II, Enforcement and Compliance, International Trade Administration, U.S. Department of Commerce, 1401 Constitution Avenue NW, Washington, DC 20230; telephone: (202) 482-1058.

SUPPLEMENTARY INFORMATION:

Background

On May 6, 2025, Commerce published in the Federal Register its preliminary affirmative determination in the LTFV investigation of hexamine from Saudi Arabia, in which we also postponed the final determination until September 18, 2025, and invited interested parties to comment on the Preliminary Determination.¹ On August 14, 2025, Commerce issued a post-preliminary analysis memorandum in which we made certain changes to our differential pricing analysis.² We invited parties to comment on the changes to the differential pricing analysis.³

¹ See Hexamethylenetetramine from the Kingdom of Saudi Arabia: Preliminary Affirmative Determination of Sales at Less Than Fair Value, Postponement of Final Determination, and Extension of Provisional Measures 90 FR 19180 (May 6, 2025) (Preliminary Determination), and accompanying Preliminary Decision Memorandum.

² See Memorandum, “Post-Preliminary Analysis for the Affirmative Determination in the Less-Than-Fair-Value Investigation of Hexamethylenetetramine from the Kingdom of Saudi Arabia,” dated August 14, 2025 (Post-Preliminary Analysis).

³ Id.

A summary of the events that occurred since Commerce published its Preliminary Determination, as well as a full discussion of the issues raised by parties for this final determination, may be found in the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Final Affirmative Determination in the Less-Than-Fair-Value Investigation of Hexamethylenetetramine from the Kingdom of Saudi Arabia,” dated concurrently with, and hereby adopted by, this notice (Issues and Decision Memorandum).

Scope of the Investigation

The product covered by this investigation is hexamine from Saudi Arabia. For a complete description of the scope of this investigation, see Appendix I.

Scope Comments

We received no comments from interested parties on the scope of the investigation as it appeared in the Preliminary Determination. Therefore, we made no changes to the scope of the investigation from that published in the Preliminary Determination for the final determination.

Verification

As provided in section 782(i)(1) of the Tariff Act of 1930, as amended (the Act), in May 2025, Commerce verified the sales and cost information submitted by Chemanol for use in the final determination. We used standard verification procedures, including an examination of relevant sales and accounting records, and original source documents provided by Chemanol.⁵

⁵ See Memoranda, “Verification of the Cost Response of Methanol Chemicals Company in the Less-Than-Fair-Value Investigation of Hexamethylenetetramine from the Kingdom of Saudi Arabia,” dated June 11, 2025 (Cost Verification Report); and “Verification of the Sales Response of the Methanol Chemicals Company in the Antidumping Duty Investigation of Hexamine from the Kingdom of Saudi Arabia,” dated June 25, 2025 (Sales Verification Report).

Analysis of Comments Received

All issues raised in the case and rebuttal briefs submitted by interested parties in this investigation are addressed in the Issues and Decision Memorandum. A list of the issues addressed in the Issues and Decision Memorandum is attached to this notice as Appendix II.

Final Negative Determination of Critical Circumstances

On August 27, 2025, Bakelite LLC (the petitioner) alleged that critical circumstances exist with respect to imports of hexamine from Saudi Arabia.⁶ We determine that critical circumstances do not exist for Methanol Chemicals Company (Chemanol), and all other companies not individually examined pursuant to section 735(a)(3) of the Act and 19 CFR 351.206. For a discussion of Commerce's critical circumstances analysis, see the Issues and Decision Memorandum.

⁶ See Petitioner's Letter, “Critical Circumstances Allegation,” dated August 27, 2025 (Critical Circumstances Allegation).

Changes Since the Preliminary Determination

We made certain changes to the margin calculation for Chemanol, since the Preliminary Determination and Post-Preliminary Analysis.⁷ For a discussion of these changes, see the Issues and Decision Memorandum.

⁷ See Memorandum, “Analysis for the Final Determination for the Methanol Chemicals Company,” dated concurrently with this notice.

All-Others Rate

Section 735(c)(5)(A) of the Act provides that Commerce shall determine an estimated all-others rate for all exporters and producers not individually examined. This rate shall be an amount equal to the weighted average of the estimated weighted-average dumping margins established for exporters and producers individually investigated, excluding any zero and de minimis margins, and any margins determined entirely under section 776 of the Act.

In this investigation, Commerce calculated an individual estimated weighted-average dumping margin for Chemanol, the only individually examined exporter/producer in this investigation. Because the only individually calculated dumping margin is not zero, de minimis, or based entirely on facts otherwise available, the estimated weighted-average dumping margin calculated for Chemanol is the margin assigned to all other producers and exporters, pursuant to section 735(c)(5)(A) of the Act.

Final Determination

Commerce determines that the following estimated weighted-average dumping margins exist for the period, July 1, 2023, through June 30, 2024:

Exporter/producer | Weighted- average dumping margin (percent)
Methanol Chemicals Company | 6.13
All Others | 6.13

Disclosure

Commerce intends to disclose the calculations performed in connection with this final determination to interested parties within five days of any public announcement or, if there is no public announcement, within five days of the publication of the notice in the Federal Register, in accordance with 19 CFR 351.224(b).

Continuation of Suspension of Liquidation

In accordance with section 735(c)(1)(B) of the Act, Commerce will instruct U.S. Customs and Border Protection (CBP) to continue to suspend liquidation of all entries of hexamine, as described in Appendix I of this notice, which were entered, or withdrawn from warehouse, for consumption on or after May 6, 2025, the date of publication of the Preliminary Determination in the Federal Register. These suspension of liquidation instructions will remain in effect until further notice.

Pursuant to section 735(c)(1)(B)(ii) of the Act and 19 CFR 351.210(d), upon the publication of this notice, we will instruct CBP to require a cash deposit for estimated antidumping duties for such entries as follows: (1) the cash deposit rate for exporters listed in the table above is the company-specific estimated weighted-average dumping margins listed for the respondents in the table; (2) if the exporter is not listed in the table above, but the producer is, then the cash deposit rate is the company specific estimated weighted-average dumping margins listed for the producer of the subject merchandise in the table above; and (3) the cash deposit rate for all other producers and exporters is the all-others estimated weighted-average dumping margin listed in the table above. These suspension of liquidation instructions will remain in effect until further notice.

U.S. International Trade Commission (ITC) Notification

In accordance with section 735(d) of the Act, Commerce will notify the ITC of our final affirmative determination of sales at LTFV. Because the final determination in this proceeding is affirmative, in accordance with sections 735(b)(2) of the Act, the ITC will make its final determination as to whether the domestic industry in the United States is materially injured, or threatened with material injury, by reason of imports of hexamine from Saudi Arabia no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

This determination and this notice are issued and published in accordance with sections 735(d) and 777(i) of the Act, and 19 CFR 351.210(c).

Dated: September 18, 2025.
Christopher Abbott,
Deputy Assistant Secretary for Policy and Negotiations, performing the non-exclusive functions and duties of the Assistant Secretary for Enforcement and Compliance.

Appendix I

Scope of the Investigation

The scope of the investigation covers hexamine in granular form, with a particle size of 5 millimeters or less, whether stabilized or unstabilized, whether or not blended, mixed, pulverized, or grounded with other products, containing 50 percent or more hexamine by weight.

Hexamine is the common name for hexamethylene tetramine (Chemical Abstract Service #100-97-0), and is also referred to as 1,3,5,7-tetraazaadamantanemethenamine; HMT; HMTA; 1,3,5,7-tetraazatricyclo {3.3.1.13,7} decane; 1,3,5,7-tetraaza adamantane; hexamethylenamine. Hexamine has the chemical formula C6H12N4.

Granular hexamine that has been blended with other product(s) is included in this scope when the resulting mix contains 50 percent or more of hexamine by weight, regardless of whether it is blended with inert additives, co-reactants, or any additives that undergo self-condensation.

Subject merchandise includes merchandise matching the above description that has been processed in a third country, including by commingling, diluting, adding or removing additives, or performing any other processing that would not otherwise remove the merchandise from the scope of the investigation if performed in the subject country.

Merchandise covered by the scope of the investigation can be classified in the Harmonized Tariff Schedule (HTSUS) of the United States under the subheading 2933.69.5000. The HTSUS subheading and Chemical Abstracts Service registry number are provided for convenience and customs purposes only; however, the written description of the scope is dispositive.

Appendix II

List of Topics Discussed in the Issues and Decision Memorandum

I. Summary

II. Background

III. Final Negative Determination of Critical Circumstances

IV. Changes Since the Preliminary Determination

V. Discussion of the Issues

Comment 1: Whether to Adjust Chemanol's Reported General and Administrative Expenses

Comment 2: Whether to Adjust the Total Cost of Manufacturing Reported by Chemanol

Comment 3: Whether There is a Quantity Discrepancy in the Third-Country Market Sales Database

Comment 4: Whether to Apply Partial Facts Available with an Adverse Inference to Chemanol's Reported Credit Expenses, Payment Dates and Bank Charges

VI. Recommendation

[FR Doc. 2025-18443 Filed 9-22-25; 8:45 am]

BILLING CODE 3510-DS-P